DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Room 4211, U.S. Department of Commerce, 14th Street and Constitution Avenue, NW., Washington, DC.

Docket Number: 00-010. Applicant: Tulane University, 6823 St. Charles Avenue, New Orleans, LA 70118-5698. Instrument: Electron Microscope, Model JEM-2010. Manufacturer: JEOL Ltd., Japan. Intended Use: The instrument is intended to be used for the study of microstructure of metals, metal oxide fibers, ceramics, semiconductors, composite materials, and geological samples. In these studies, the microscope is used to measure particle and crystal sizes and morphologies, crystalline structure and d-spacing of crystallographic planes, chemical composition and distribution, and number and extent of defects. In addition, the instrument will be used to train graduate students so that they will better understand the microscopy analysis of their samples. Application accepted by Commissioner of Customs: April 12, 2000.

Frank W. Creel,
Director, Statutory Import Programs Staff.

[FR Doc. 00-13320 Filed 5-25-00; 8:45 am]

BILLING CODE 3510-DS-P